SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 19, 2009.

ADDRESSES: Send all comments regarding whether this information collection is necessary for the proper performance of the function of the agency, whether the burden estimates are accurate, and if there are ways to minimize the estimated burden and enhance the quality of the collection, to Gail Hepler, Chief 7a Loan Policy Branch, Office of Financial Assistance, Small Business Administration, 409 3rd Street, 8th Floor, Washington, DC 20416.

FOR FURTHER INFORMATION CONTACT: Gail Hepler, Chief 7a Loan Policy Branch, Office of Financial Assistance 202-205-7530 gail.hepler@sba.gov Curtis B. Rich, Management Analyst, 202-205-7030 curtis.rich@sba.gov.

SUPPLEMENTARY INFORMATION: The Small Business Administration (SBA) is authorize to guaranty loans in the SBA Express and Pilot Loan Programs. The regulations covering these and other loan programs at 13 CFR part 120 requires certain information from loan applicants and lenders.

Title: “SBA Express and Pilot Loan Programs (Export Express, Community Express and Patriot Express.”

Description of Respondents: Small Business Clients.

Form Number's: 1919, 1920SX, A, B, C, 2237, 2239.

Annual Responses: 98,200.

Annual Burden: 52,474.

Curtis B. Rich,
Acting Chief, Administrative Information Branch.

[FR Doc. E9-19797 Filed 8-17-09; 8:45 am]

BILLING CODE 8025-01-P